DEPARTMENT OF COMMERCE

International Trade Administration

Mission Statement: U.S. Aerospace Business Development Mission to Canada, April 14-15, 2010

AGENCY: International Trade Administration, Department of Commerce.

ACTION: Notice.

Mission Description

The United States Department of Commerce's International Trade Administration, U.S. and Foreign Commercial Service is organizing a U.S. Aerospace Business Development Mission to Montreal, Canada, April 14-15, 2010. This aerospace mission is designed to provide U.S. aerospace export-ready, small to medium-sized companies (SMEs) with a highly efficient and cost-effective opportunity to establish profitable commercial relations with prospective agents, distributors and end-users in Canada's aerospace market. Participating U.S. companies will receive market intelligence briefings by Canadian industry experts, networking opportunities and most importantly, pre-scheduled, pre-screened one-on-one meetings with Canadian aerospace company representatives. Mission participants will also benefit from visiting key local aerospace original equipment manufacturers (OEM) and speaking with procurement managers about supply chain opportunities. This mission is an ideal opportunity for U.S. aerospace companies to gain valuable international business experience in a low risk, highly important aerospace market.

Commercial Setting

Canada is a very receptive market to U.S. goods and services and presents an ideal opportunity for the U.S. Commercial Service, both in the United States and Canada, to broaden and deepen the U.S. exporter base and help U.S. SMEs achieve export success. The United States and Canada share the largest and most dynamic commercial relationship in the world. In 2008, two-way merchandise trade crossing our common border with Canada stood at US$596.9 billion, or more than US$1.6 billion per day as U.S. exports to Canada grew by 5.0 percent. Today, U.S. trade with Canada exceeds total U.S. trade with the 27 countries of the European Union combined. Canada also represents the number one export market for 36 of our 50 States and is among the top five export markets for another ten States. The aerospace industry has been identified as one of Canada's best prospects.

In 2008, Canada was the fourth largest export market for U.S. aerospace products, generating close to US$7.5 billion in U.S. export sales. Canada's aerospace industry is the fifth largest in the world; in 2008 total aerospace sales were US$22.6 billion. Industry estimates show that the aerospace industry will experience nearly flat growth next year, and will begin to pick up more rapidly in 2011. Canada is a world leader in the global aerospace industry and a market leader in regional aircraft, commercial helicopters, turbine engines, flight simulators and a broad range of aircraft systems, components and equipment. Quebec is at the heart of the Canadian Aerospace Industry. Over 60 percent of all Canadian aerospace production and approximately 70 percent of Canadian aerospace research and development is performed within a 30-mile radius of Montreal. Quebec's aerospace industry alone is the sixth largest in the world.

Montreal is home to renowned industry leaders such as Bombardier Aerospace, Bell Helicopter Textron, Pratt & Whitney Canada, and CAE. To this exceptional concentration of world leaders, we can add other big names such as Rolls-Royce Canada, Héroux Devtek, Messier-Dowty, CMC Electronics—Esterline, Thales, and many other suppliers, mostly SMEs, which form a cluster of over 250 aerospace firms.

Canada's geographic proximity, open market economy, stable business climate and receptivity to U.S. goods and services make it the number one gateway to the international marketplace for thousands of U.S. export-ready SMEs. The North American Free Trade Agreement (NAFTA), which provides U.S. NAFTA qualifying products with duty-free entry into Canada, also contributes to the relatively low-cost, low-risk, access that U.S. SMEs can use to prosper and grow in the Canadian marketplace.

Mission Goals

The trade mission's goal is to introduce U.S. suppliers of aerospace products to Canadian potential end-users and partners, including potential agents, distributors, and licensees, with the aim of creating business partnerships that will contribute to increasing U.S. exports to the Canadian aerospace market, particularly the aircraft and aircraft parts market.

Mission Scenario

Participants in the mission to Canada will benefit from a full range of business facilitation and trade promotion services provided by the U.S. Commercial Service in Canada. Participants will receive a briefing by a panel of experts on the Canadian aerospace market, as well as an overview of the country's economic and political environment. The mission will also include one-on-one business meetings between U.S. participants and potential Canadian end-users and partners, networking opportunities, and tours of some of the largest original aerospace manufacturers, where companies will have the opportunity to meet senior OEM representatives and learn about planned projects and expected procurement needs. Prior to the end of the mission, Commercial Service staff will counsel participants on follow-up.

CS Canada will work with the following Canadian Aerospace Industry multipliers to help provide access mission participants: Quebec Ministry of Economic Development, Export and Innovation, Industry Canada, the Canadian Department of Foreign Affairs and International Trade and the Quebec Aerospace Association.

Proposed Mission Timetable

The proposed schedule allows for about two full days in Montreal.

Tuesday, April 13, 2009 | Mission members arrive in Montreal; Welcome Dinner.
Wednesday, April 14, 2009 | Market briefing; Business matchmaking; Networking event.
Thursday, April 15, 2009 | Visits to Canadian aerospace OEMs and opportunity to meet with procurement managers; Debriefing; Departure from Montreal.

Participation Requirements

All parties interested in participating in the U.S. Aerospace Business Development Mission to Canada must complete and submit an application form for consideration by the Department of Commerce. All applicants will be evaluated on their ability to satisfy the selection criteria as outlined below. A minimum of 10 and maximum of 15 companies will be selected on a first come-first served basis.

Fees and Expenses

After a company has been selected to participate on the mission, a participation fee paid to the U.S. Department of Commerce is required. The participation fee will be $2,900 for large firms and $2,000 for a small or medium-sized enterprise (SME),¹ for up to two company representatives. The fee for more than two company representatives is $250 per additional participant. Expenses for travel, lodging, in-country transportation (except for bus transportation to visit local aerospace OEMs on the second day of the mission), meals and incidentals will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission Participation Agreement and a completed Market Interest Questionnaire, including adequate information on the company's products and/or services, primary market objectives, and goals for participation. If the Department of Commerce receives an incomplete application, the Department may reject the application, request additional information, or take the lack of information into account when evaluating the applications.

• Each applicant must also certify that the products and services to be promoted through the mission are either produced in the United States or marketed under the name of a U.S. firm and have at least 51 percent U.S. content of the value of the finished product or service.

Selection Criteria for Participation

Selection will be based on the following criteria:

• Suitability of the company's products or services for the Canadian aerospace market.

• Applicant's potential for business in Canada, including the likelihood of exports resulting from the mission.

• Consistency in the applicant's goals and objectives with the stated scope of the mission.

Referrals from political organizations and any documents containing references to partisan political activities (including political contributions) will be removed from an applicant's submission and not considered during the selection process.

Timeframe for Recruitment and Applications

Mission recruitment will be conducted in an open and public manner. Outreach will include publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows.

The mission will be open on a first-come, first-served basis. Recruitment for the mission will begin immediately and close on February 12, 2010. Applications received after February 12, 2010, will be considered only if space and scheduling constraints permit. Applications will be available online on the mission Web site at: http://www.buyusa.gov/Canada.

Contacts

Gina Bento, Commercial Specialist, U.S. Commercial Service, P.O. Box 65 Desjardins Station, Montreal, QC H5B 1G1. Tel: 514-908-3660. E-mail: Gina.Bento@mail.doc.gov.

Sean Timmins,
Global Trade Programs, Commercial Service Trade Missions Program.

[FR Doc. 2010-929 Filed 1-19-10; 8:45 am]

BILLING CODE P